DEPARTMENT OF THE INTERIOR

Bureau of Reclamation

American Basin Fish Screen and Habitat Improvement Project

AGENCY: Bureau of Reclamation, Interior.

ACTION: Notice of availability of the Final Environmental Impact Statement/Environmental Impact Report (Final EIS/EIR).

SUMMARY: The Bureau of Reclamation (Reclamation), the National Environmental Policy Act Federal lead agency, and the California Department of Fish and Game (DFG), the California Environmental Quality Act State lead agency have prepared a Final EIS/EIR for the American Basin Fish Screen and Habitat Improvement Project (Project). The Project is located in northwestern Sacramento County and southern Sutter County. The Project modifies the Natomas Mutual Water Company's water diversion from the Sacramento River and distribution system, thereby avoiding and minimizing potentially adverse affects to fish, particularly juvenile anadromous fish.

The Notice of Availability of the Draft EIS/EIR was published in the Federal Register on March 3, 2008 (Volume 73, No. 42). The written comment period on the Draft EIS/EIR ended May 2, 2008. The Final EIS/EIR contains responses to all comments received and any additional information received during the review period.

DATES: After the 30-day circulation of the Final EIS/EIR, Reclamation will prepare a Record of Decision (ROD). The ROD will state the decision and will identify and discuss relevant factors considered in the decision.

ADDRESSES: A compact disc or copy of the Final EIS/EIR may be requested from Mr. Brad Hubbard, by writing to the Bureau of Reclamation, 2800 Cottage Way, MP-400, Sacramento, CA 95825; by calling 916-978-5204; or by e-mailing bhubbard@mp.usbr.gov. The Final EIS/EIR is also accessible from the following Web site: http://www.usbr.gov/mp/nepa/nepa_projdetails.cfm?Project_ID=783. See the Supplementary Information section for locations where copies of the Final EIS/EIR are available for public review.

FOR FURTHER INFORMATION CONTACT: Mr. Brad Hubbard, Bureau of Reclamation, at 916-978-5204; or Mr. James Navicky, Environmental Scientist, California Department of Fish and Game, at 916-358-2926.

SUPPLEMENTARY INFORMATION: The Draft EIS/EIR evaluated impacts related to constructing and operating one or two positive-barrier fish screen diversion facilities; decommissioning and removing the Verona Diversion Dam and lift pumps; removing five pumping plants and one small private diversion; and modifying the distribution system. The Draft EIS/EIR documented the direct, indirect, and cumulative effects to the physical, natural, and socioeconomic environment that may result from implementation of one of the alternatives. Copies of the Final EIS/EIR are available for public review at the following locations:

• Bureau of Reclamation, Denver Office Library, Building 67, Room 167, Denver Federal Center, 6th and Kipling, Denver, Colorado 80225; telephone: 303-445-2072.

• Bureau of Reclamation, Mid-Pacific Region, Regional Library, 2800 Cottage Way, Sacramento, California 95825; telephone: 916-978-5100.

• Natural Resources Library, U.S. Department of the Interior, 1849 C Street, NW., Main Interior Building, Washington, DC 20240-0001.

• California Department of Fish and Game, North Central Region, 1701 Nimbus Road, Rancho Cordova, CA 95670; telephone: 916-358-2900.

• Natomas Mutual Water Company, 2601 West Elkhorn Boulevard, Rio Linda, CA 95673; telephone: 916-419-5936.

Before including your name, address, phone number, e-mail address, or other personal identifying information in any correspondence, you should be aware that your entire correspondence—including your personal identifying information—may be made publicly available at any time. While you can ask us in your correspondence to withhold your personal identifying information from public review, we cannot guarantee that we will be able to do so.

Dated: July 3, 2008.
John F. Davis,
Deputy Regional Director, Mid-Pacific Region.

[FR Doc. E8-17229 Filed 7-25-08; 8:45 am]

BILLING CODE 4310-MN-P